DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Pub. L. 92-463, 86 Stat.770) requires that public notice of these meetings be announced in the Federal Register.

DATES: Monday, January 26, 2004, 8:30 a.m.—4 p.m.; Tuesday, January 27, 2004, 8:30 a.m.—4 p.m.

ADDRESSES: Hilton-Palmetto Dunes, 23 Ocean Lane, Hilton Head, SC 29928.

FOR FURTHER INFORMATION CONTACT: Gerri Flemming, Closure Project Office, Department of Energy Savannah River Operations Office, P.O. Box A, Aiken, SC, 29802; Phone: (803) 952-7886.

SUPPLEMENTARY INFORMATION: Purpose of the Board: The purpose of the Board is to make recommendations to DOE and its regulators in the areas of environmental restoration, waste management, and related activities.

Tentative Agenda

Monday, January 26, 2004

8:30 a.m.—Special Session on CAB Administration

10 a.m.—Special Session on 2004 CAB Workplan

12 noon—Lunch Break

1:30 p.m.—Combined Committee Session

5:15 p.m.—Adjourn

Tuesday, January 27, 2004

8:30 a.m.—Recognition of Outgoing Cab Members & Remarks; Approval of Minutes; Agency Updates

9:15 a.m.—Public Comment Session

9:30 a.m.—Chair and Facilitator Update

9:45 a.m.—Waste Management Committee Report

11:30 a.m.—Strategic & Legacy Management Committee Report

11:50 a.m.—Public Comment Session

12 noon—Lunch Break

1 p.m.—Nuclear Materials Committee Report

1:50 p.m.—Facilities Disposition & Site Remediation Committee Report

2:40 p.m.—Administrative Committee Report

3:10 p.m.—2004 Candidate Review and Elections

—2004 Committee Chair Elections

3:50 p.m.—Public Comment Session

4 p.m.—Adjourn

If needed, time will be allotted after public comments for items added to the agenda and administrative details. A final agenda will be available at the meeting Monday, January 26, 2004.

Public Participation: The meeting is open to the public. Written statements may be filed with the Board either before or after the meeting. Individuals who wish to make the oral statements pertaining to agenda items should contact Gerri Flemming's office at the address or telephone listed above. Requests must be received five days prior to the meeting and reasonable provision will be made to include the presentation in the agenda. The Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC, 20585 between 9 a.m. and 4 p.m., Monday through Friday, except Federal holidays. Minutes will also be available by writing to Gerri Flemming, Department of Energy Savannah River Operations Office, PO Box A, Aiken, SC, 29802, or by calling her at (803) 952-7886.

Issued at Washington, DC on January 7, 2004.
Rachel M. Samuel,
Deputy Advisory Committee Management Officer.

[FR Doc. 04-573 Filed 1-9-04; 8:45 am]

BILLING CODE 6450-01-P